DEPARTMENT OF COMMERCE

Foreign-Trade Zones Board

[B-20-2019]

Foreign-Trade Zone (FTZ) 168—Dallas/Fort Worth, Texas; Notification of Proposed Production Activity; Samsung Electronics America, Inc. (Packaging for Mobiles and Tablets), Coppell, Texas

Metroplex International Trade Development Corporation, grantee of FTZ 168, submitted a notification of proposed production activity to the FTZ Board on behalf of Samsung Electronics America, Inc. (Samsung), located in Coppell, Texas. The notification conforming to the requirements of the regulations of the FTZ Board (15 CFR 400.22) was received on March 29, 2019.

Samsung already has authority for kitting of mobile phones and tablet computers within Subzone 168D. The current request would add a foreign status material/component to the scope of authority. Pursuant to 15 CFR 400.14(b), additional FTZ authority would be limited to the specific foreign-status material/component described in the submitted notification (as described below) and subsequently authorized by the FTZ Board.

Production under FTZ procedures could exempt Samsung from customs duty payments on the foreign-status material/component used in export production. On its domestic sales, for the foreign-status material/component noted below, Samsung would be able to choose the duty rate during customs entry procedures that apply to mobile phones and tablet computers (duty-free). Samsung would be able to avoid duty on foreign-status components which become scrap/waste. Customs duties also could possibly be deferred or reduced on foreign-status production equipment.

The material/component sourced from abroad is retail packaging trays consisting of bamboo and sugar cane pulp (duty-free). The request indicates that the material/component is subject to special duties under Section 301 of the Trade Act of 1974 (Section 301), depending on the country of origin. The applicable Section 301 decision requires subject merchandise to be admitted to FTZs in privileged foreign status (19 CFR 146.41).

Public comment is invited from interested parties. Submissions shall be addressed to the Board's Executive Secretary at the address below. The closing period for their receipt is May 15, 2019.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Juanita Chen at juanita.chen@trade.gov or 202-482-1378.

Dated: April 1, 2019.
Andrew McGilvray,
Executive Secretary.

[FR Doc. 2019-06705 Filed 4-4-19; 8:45 am]

BILLING CODE 3510-DS-P